DEPARTMENT OF ENERGY

Federal Energy Regulatory Commission

[Project No. 2280-018]

Seneca Generation, LLC; Notice of Effectiveness of Withdrawal of Operating Plan and Operation Compliance and Monitoring Plan

On November 13, 2025, Seneca Generation, LLC (licensee) filed an Operating Plan and Operation Compliance and Monitoring Plan pursuant to Articles 303 and 403, respectively, of the license for the Kinzua Pumped Storage Project No. 2280.¹ On January 9, 2026, the licensee filed a notice of withdrawal of the request. The project is located on the Allegheny River in Warren County, Pennsylvania at the U.S. Army Corps of Engineers (Corps) Kinzua Dam, and occupies federal land administered by the Corps, and the U.S. Forest Service (Forest Service).

¹ Seneca Generation, LLC, 152 FERC ¶ 62,045 (2015).

No motion in opposition to the notice of withdrawal has been filed, and the Commission has taken no action to disallow the withdrawal. Pursuant to Rule 216(b) of the Commission's Rules of Practice and Procedure,² the withdrawal of the application became effective on January 26, 2026, and this proceeding is hereby terminated.

² 18 CFR 385.216(b) (2025).

(Authority: 18 CFR 2.1.)

Dated: February 5, 2026.
Carlos D. Clay,
Deputy Secretary.

[FR Doc. 2026-02612 Filed 2-9-26; 8:45 am]

BILLING CODE 6717-01-P